SOCIAL SECURITY ADMINISTRATION

[Docket No. SSA-2014-0073]

Privacy Act of 1974, as Amended: Proposed New Routine Use and Updated Retention and Disposal

AGENCY: Social Security Administration (SSA).

ACTION: Proposed New Routine Use and Updated Retention and Disposal.

SUMMARY: Pursuant to the Privacy Act of 1974, as amended, we are issuing public notice of our intent to add a new routine use to, and update the retention and disposal schedule of, an existing system of records entitled: Representative Disqualification, Suspension and Non-Recognition Information File, (60-0219). This system was last published in the Federal Register, 75 FR 25904 (May 10, 2010). The new routine use will allow broader disclosure to a bar disciplinary authority, court, or administrative tribunal before the agency imposes sanctions against a representative. The Office of General Counsel will use this new routine use to disclose records regarding the agency's investigation of an attorney, as well as records regarding non-attorneys misrepresenting themselves as attorneys, and non-attorneys continuing to practice despite non-recognition, suspension, or disqualification by the agency. The new routine use will allow for broader disclosure of representative misconduct to promote the integrity of our programs. The update to the retention and disposal section is based on the agency's specific records schedules. The new routine use and update to the retention and disposal section are described below.

DATES: We invite public comment on this proposal. In accordance with 5 U.S.C. 552a(e)(4) and (e)(11), the public is given a 30-day period in which to submit comments. Therefore, please submit any comments by February 6, 2015.

ADDRESSES: The public, Office of Management and Budget (OMB), and Congress may comment on this publication by writing to the Executive Director, Office of Privacy and Disclosure, Office of the General Counsel, Social Security Administration, Room 617 Altmeyer Building, 6401 Security Boulevard, Baltimore, Maryland 21235-6401 or through the Federal e-Rulemaking Portal at http://www.regulations.gov. All comments we receive will be available for public inspection at the above address.

FOR FURTHER INFORMATION CONTACT: Jasson Seiden, Government Information Specialist, Privacy Implementation Division, Office of Privacy and Disclosure, Office of the General Counsel, Social Security Administration, Room 617 Altmeyer Building, 6401 Security Boulevard, Baltimore, Maryland 21235-6401, telephone: (410) 597-4307, Email: Jasson.Seiden@ssa.gov.

In accordance with 5 U.S.C. 552a(r), we have provided a report to OMB and Congress on the proposed new routine use and update to the retention and disposal section.

Dated: December 11, 2014.
Kirsten J. Moncada,
Executive Director, Office of Privacy and Disclosure, Office of the General Counsel.

Social Security Administration

SYSTEM NUMBER: 60-0219

SYSTEM NAME:

Representative Disqualification, Suspension and Non-Recognition Information File

* * * * *

ROUTINE USES OF RECORDS COVERED BY THE SYSTEM, INCLUDING CATEGORIES OF USERS AND THE PURPOSES OF SUCH USES:

* * * * *

17. To a Federal court, State court, administrative tribunal, bar disciplinary authority or other authority, by the Office of the General Counsel, as necessary, to permit these authorities to investigate and conduct proceedings relating to potential professional disciplinary actions or other measures relating to the authorities' regulation of professional conduct.

* * * * *

RETENTION AND DISPOSAL:

* * * * *

We retain and destroy this information in accordance with National Archives and Records Administration approved authorities. We will destroy those cases in which the agency receives an allegation of misconduct but determines that the representative did not violate SSA's Rules of Conduct and Standards of Responsibility two years after the investigation ends, in accordance with SSA's agency specific records schedule, N1-047-10-004/I.E.1. We will destroy all other cases 25 years after closure, in accordance with N1-047-10-004/I.E.2. We will erase or destroy records in electronic form and shred records in paper form.

[FR Doc. 2014-30969 Filed 1-6-15; 8:45 am]

BILLING CODE 4191-02-P